INTERNATIONAL TRADE COMMISSION

[Investigation No. 731-TA-539-C, E and F (Review)]

Uranium from Russia, Ukraine and Uzbekistan

AGENCY: United States International Trade Commission.

ACTION: Revised schedule for the subject 5-year reviews.

EFFECTIVE DATE: March 15, 2000.

FOR FURTHER INFORMATION CONTACT: Larry Reavis (202-205-3185), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On January 14, 2000, the Commission established a schedule for the conduct of the subject 5-year reviews (Federal Register 65 FR 3737, January 24, 2000). The Commission has determined to exercise its authority to extend the review period by up to 90 days pursuant to 19 U.S.C. 1675(c)(5)(B), and is hereby revising its schedule.

The Commission's new schedule for the reviews is as follows: requests to appear at the hearing must be filed with the Secretary to the Commission not later than June 2, 2000; the prehearing conference will be held at the U.S. International Trade Commission Building at 9:30 a.m. on June 7, 2000; the prehearing staff report will be placed in the nonpublic record on May 25, 2000; the deadline for filing prehearing briefs is June 5, 2000; the hearing will be held at the U.S. International Trade Commission Building at 9:30 a.m. on June 13, 2000; the deadline for filing posthearing briefs is June 22, 2000; the Commission will make its final release of information on July 14, 2000; and final party comments are due on July 18.

For further information concerning the reviews see the Commission's notice cited above and the Commission's Rules of Practice and Procedure, part 201, subparts A through E (19 CFR part 201), and part 207, subparts A and C (19 CFR part 207).

Authority: These reviews are being conducted under authority of title VII of the Tariff Act of 1930; this notice is published pursuant to section 207.21 of the Commission's rules.

By order of the Commission.
Issued: March 15, 2000.
Donna R. Koehnke,
Secretary.

[FR Doc. 00-7077 Filed 3-21-00; 8:45 am]

BILLING CODE 7020-02-P